DEPARTMENT OF COMMERCE

Foreign-Trade Zones Board

[Docket 78-2011]

Foreign-Trade Zone 49—Newark/Elizabeth, NJ; Application for Expansion

An application has been submitted to the Foreign-Trade Zones (FTZ) Board (the Board) by the Port Authority of New York and New Jersey, grantee of FTZ 49, requesting authority to expand its zone in the Newark/Elizabeth, New Jersey, area, within the New York/Newark Customs and Border Protection port of entry. The application was submitted pursuant to the provisions of the Foreign-Trade Zones Act, as amended (19 U.S.C. 81a-81u), and the regulations of the Board (15 CFR part 400). It was formally filed on December 7, 2011.

FTZ 49 was approved by the Board on April 6, 1979 (Board Order 146, 44 FR 22502, 4/16/79) and expanded on May 26, 1983 (Board Order 211, 48 FR 24958, 6/3/83), on October 23, 1987 (Board Order 365, 52 FR 41599, 10/29/87), on April 19, 1990 (Board Order 470, 55 FR 17478, 4/25/90), on December 15, 1999 (Board Order 1067, 64 FR 72462-72643, 12/28/99), on April 14, 2006 (71 FR 23895, 4/25/06), on February 28, 2007 (Board Order 1504, 72 FR 10642-10643, 3/9/07), and on July 16, 2009 (Board Order 1634, 74 FR 37688-37689, 7/29/09).

The current zone project includes the following sites in the Newark/Elizabeth area: Site 1 (total—2,121 acres)—Port Newark/Elizabeth Port Authority Marine Terminal (2,075 acres), a parcel (23 acres) located at 888 Doremus Avenue, Newark, a parcel (6 acres) located at 580 Division Street, Elizabeth, and a parcel (17 acres) located at 251-259 Kapowski Road, Elizabeth; Site 2 (64 acres)—Global Terminal and Container Services facility (41 acres) and adjacent Jersey Distribution Services facility (23 acres) Jersey City/Bayonne; Site 3 (124 acres)—Port Authority Industrial Park, adjacent to the Port Newark/Elizabeth Port Authority Marine Terminal; Site 4 (198 acres)—Port Authority Auto Marine Terminal (145 acres) and adjacent 53-acre Greenville Industrial Park on Upper New York Bay's Port Jersey Channel in Bayonne and Jersey City; Site 5 (40 acres)—Newark International Airport jet fuel storage and distribution system in the Cities of Newark and Elizabeth (Union and Essex Counties); Site 6 (407 acres)—within an industrial park located at 100 Central Avenue, Kearny; Site 7 (114 acres, sunset 3/31/14)—within the I-Port 12 industrial park, located at exit 12 of the NJ Turnpike, Carteret; Site 8 (176 acres, sunset 3/31/14)—within the I-Port 440 industrial park, located east of State St. and north of the Outer Bridge Crossing, Perth Amboy; Site 9 (317 acres, sunset 3/31/14)—Port Reading Business Park located on Port Reading Avenue, Woodbridge; Site 10 (73 acres, sunset 3/31/14)—Port Elizabeth Business Park located at 10 North Avenue East, Elizabeth; Site 11 (379 acres, sunset 7/31/14)—Heller Industrial Park located at 205 Mill Road, Edison; and, Site 12 (23 acres, sunset 7/31/14)—located at 400, 440, 490 Heller Park Court and 1 Industrial Road, South Brunswick.

The applicant is now requesting authority to expand the zone to include the following site: Proposed Site 13 (546 acres)—Raritan Center Business Park, Woodbridge Avenue & Raritan Center Parkway, Townships of Edison and Woodbridge, Middlesex County. No specific manufacturing authority is being requested at this time. Such requests would be made on a case-by-case basis.

In accordance with the Board's regulations, Kathleen Boyce of the FTZ Staff is designated examiner to evaluate and analyze the facts and information presented in the application and case record and to report findings and recommendations to the Board.

Public comment is invited from interested parties. Submissions (original and 3 copies) shall be addressed to the Board's Executive Secretary at the address below. The closing period for their receipt is February 13, 2012. Rebuttal comments in response to material submitted during the foregoing period may be submitted during the subsequent 15-day period to February 27, 2012.

A copy of the application will be available for public inspection at the Office of the Executive Secretary, Foreign-Trade Zones Board, Room 2111, U.S. Department of Commerce, 1401 Constitution Avenue NW., Washington, DC 20230-0002, and in the “Reading Room” section of the Board's Web site, which is accessible via http://www.trade.gov/ftz. For further information, contact Kathleen Boyce at Kathleen.Boyce@trade.gov or (202) 482-1346.

Dated: December 7, 2011.
Andrew McGilvray,
Executive Secretary.

[FR Doc. 2011-32090 Filed 12-13-11; 8:45 am]

BILLING CODE P